SECURITIES AND EXCHANGE COMMISSION

Sunshine Act Meeting

Notice is hereby given, pursuant to the provisions of the Government in the Sunshine Act, Public Law 94-409, that the Securities and Exchange Commission Advisory Committee on Small and Emerging Companies will hold a public telephone meeting on Friday, January 6, 2012, beginning at 1 p.m. Eastern Standard Time. The meeting will be audio webcast on the Commission's Web site at http://www.sec.gov.

On December 15, 2011, the Commission published notice of the Committee meeting (Release No. 33-9285), indicating that the meeting is open to the public and inviting the public to submit written comments to the Committee. This Sunshine Act notice is being issued because a majority of the Commission may attend the meeting.

The agenda for the meeting includes consideration of a recommendation to the Commission on relaxing current restrictions on general solicitation and advertising in exempt offerings of securities.

For further information, please contact the Office of the Secretary at (202) 551-5400.

Dated: December 29, 2011.
Elizabeth M. Murphy,
Secretary.

[FR Doc. 2011-33775 Filed 12-29-11; 4:15 pm]

BILLING CODE 8011-01-P